DEPARTMENT OF ENERGY

Federal Energy Regulatory Commission

Combined Notice of Filings #2

Take notice that the Commission received the following electric corporate filings:

Docket Numbers: EC17-53-000.

Applicants: The Potomac Edison Company.

Description: Amendment to December 23, 2016 Application of The Potomac Edison Company for Authorization Pursuant to Section 203(A)(1)(B) of the Federal Power Act, et al.

Filed Date: 3/3/17.

Accession Number: 20170303-5187.

Comments Due: 5 p.m. ET 3/24/17.

Docket Numbers: EC17-54-000.

Applicants: West Penn Power Company.

Description: Amendment to December 23, 2016 Application of West Penn Power Company for Authorization Pursuant to Section 203(A)(1)(B) of the Federal Power Act, et al.

Filed Date: 3/3/17.

Accession Number: 20170303-5186.

Comments Due: 5 p.m. ET 3/24/17.

Docket Numbers: EC17-55-000.

Applicants: Monongahela Power Company.

Description: Amendment to December 23, 2016 Application of Monongahela Power Company for Authorization Pursuant to Section 203(A)(1)(B) of the Federal Power Act, et al.

Filed Date: 3/3/17.

Accession Number: 20170303-5188.

Comments Due: 5 p.m. ET 3/24/17.

Docket Numbers: EC17-56-000.

Applicants: Metropolitan Edison Company.

Description: Amendment to December 23, 2016 Application of Metropolitan Edison Company for Authorization Pursuant to Section 203(A)(1)(B) of the Federal Power Act, et al.

Filed Date: 3/3/17.

Accession Number: 20170303-5190.

Comments Due: 5 p.m. ET 3/24/17.

Docket Numbers: EC17-57-000.

Applicants: Pennsylvania Electric Company.

Description: Amendment to December 23, 2016 Application of Pennsylvania Electric Company for Authorization Pursuant to Section 203(A)(1)(B) of the Federal Power Act, et al.

Filed Date: 3/3/17.

Accession Number: 20170303-5191.

Comments Due: 5 p.m. ET 3/24/17.

Docket Numbers: EC17-88-000.

Applicants: Monongahela Power Company, Allegheny Energy Supply Company, LLC.

Description: Application for Authorization Pursuant to Section 203 of the Federal Power Act and Requests for Confidential Treatment, Shortened Comment Period, and Limited Waiver of the Pt. 33 Filing Requirements of Monongahela Power Company, et. al.

Filed Date: 3/7/17.

Accession Number: 20170307-5133.

Comments Due: 5 p.m. ET 3/28/17.

Take notice that the Commission received the following electric rate filings:

Docket Numbers: ER11-2154-006.

Applicants: Twin Eagle Resource Management, LLC.

Description: Notice of Change in Status of Twin Eagle Resource Management, LLC.

Filed Date: 3/6/17.

Accession Number: 20170306-5225.

Comments Due: 5 p.m. ET 3/27/17.

Docket Numbers: ER15-632-005; ER15-634-005; ER14-2466-006; ER14-2465-006; ER15-2728-005.

Applicants: CID Solar, LLC, Cottonwood Solar, LLC, RE Camelot LLC, RE Columbia Two LLC, Maricopa West Solar PV, LLC.

Description: Notice of Change in Status of the Dominion Companies.

Filed Date: 3/6/17.

Accession Number: 20170306-5226.

Comments Due: 5 p.m. ET 3/27/17.

Docket Numbers: ER16-2449-001.

Applicants: Boulder Solar II, LLC.

Description: Notice of Non-Material Change in Status of Boulder Solar II, LLC.

Filed Date: 3/6/17.

Accession Number: 20170306-5230.

Comments Due: 5 p.m. ET 3/27/17.

Docket Numbers: ER17-778-000.

Applicants: Midcontinent Independent System Operator, Inc.

Description: Report Filing: 2017-03-06_Order 825 Supplemental Filing to be effective N/A.

Filed Date: 3/6/17.

Accession Number: 20170306-5085.

Comments Due: 5 p.m. ET 3/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2017.
Nathaniel J. Davis, Sr.,
Deputy Secretary.

[FR Doc. 2017-05123 Filed 3-14-17; 8:45 am]

BILLING CODE 6717-01-P